SECURITIES AND EXCHANGE COMMISSION

[File No. 500-1]

In the Matter of Accredited Business Consolidators Corp., AsherXino Corp., Bakers Footwear Group, Inc., Card Activation Technologies, Inc., High Plains Gas, Inc., and Pacific Copper Corp.; Order of Suspension of Trading

July 31, 2014.

It appears to the Securities and Exchange Commission that there is a lack of current and accurate information concerning the securities of Accredited Business Consolidators Corp. because it has not filed any periodic reports since the period ended September 30, 2012.

It appears to the Securities and Exchange Commission that there is a lack of current and accurate information concerning the securities of AsherXino Corp. because it has not filed any periodic reports since the period ended June 30, 2012.

It appears to the Securities and Exchange Commission that there is a lack of current and accurate information concerning the securities of Bakers Footwear Group, Inc. because it has not filed any periodic reports since the period ended April 28, 2012.

It appears to the Securities and Exchange Commission that there is a lack of current and accurate information concerning the securities of Card Activation Technologies, Inc. because it has not filed any periodic reports since the period ended June 30, 2012.

It appears to the Securities and Exchange Commission that there is a lack of current and accurate information concerning the securities of High Plains Gas, Inc. because it has not filed any periodic reports since the period ended September 30, 2012.

It appears to the Securities and Exchange Commission that there is a lack of current and accurate information concerning the securities of Pacific Copper Corp. because it has not filed any periodic reports since the period ended April 30, 2012.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on July 31, 2014, through 11:59 p.m. EDT on August 13, 2014.

By the Commission.
Jill M. Peterson,
Assistant Secretary.

[FR Doc. 2014-18462 Filed 7-31-14; 4:15 pm]

BILLING CODE 8011-01-P